DEPARTMENT OF THE INTERIOR

Fish and Wildlife Service

Notice of Availability, Draft Restoration Plan and Environmental Assessment

AGENCY: Fish and Wildlife Service, Department of the Interior.

ACTION: Notice of availability.

SUMMARY: The U.S. Fish and Wildlife Service (Service), on behalf of the Department of the Interior (DOI); the State of New Jersey; and the National Oceanic and Atmospheric Administration, on behalf of the Department of Commerce, announces the release for public review of the draft Restoration Plan and Environmental Assessment (RP/EA) for the T/V Anitra Oil Spill, of May 1996. The RP/EA describes the Trustees' proposal to restore natural resources injured as a result of the release of oil from the T/V Anitra to the Delaware Bay and the Atlantic Coast shorelines of New Jersey.

DATES: Written comments must be submitted on or before June 10, 2004.

ADDRESSES: Requests for copies of the RP/EA may be made to the U.S. Fish and Wildlife Service, New Jersey Field Office, 927 North Main Street, Building D, Pleasantville, New Jersey 08232.

Written comments or materials regarding the RP/EA should be sent to the same address.

FOR FURTHER INFORMATION CONTACT: Timothy J. Kubiak, Environmental Contaminants Program, U.S. Fish and Wildlife Service, New Jersey Field Office, 927 North Main Street, Building D, Pleasantville, New Jersey 08232.

Interested parties may also call 609-646-9310 for further information.

SUPPLEMENTARY INFORMATION: The Anitra Oil Spill occurred May 10, 1996. Over 50 miles of beaches were oiled over a 2-week period, including at least some oiling of several State Wildlife Management Areas, two State Parks, and Edwin B. Forsythe National Wildlife Refuge. The oil formed tarballs which proceeded northward up the Atlantic Coast shoreline from the spill site in Delaware Bay. Over 4,000 shorebirds were oiled to some degree, including at least 51 adult piping plovers and 2 chicks.

The Trustees are to receive $1.25 million in compensation from the Responsible Party to restore resources injured as a result of the oil spill and $250,000 to compensate the Trustees for past assessment costs. The settlement proceeds will be used to compensate for loss of natural resources under trusteeship of the Department of Interior, and the State of New Jersey. In the event that the exact dollar amounts available for restoration differ from the amount set forth in the draft RP/EA, the actual restoration project amounts will be adjusted by the Trustees given the factors and considerations described in the draft RP/EA. The draft RP/EA is being released in accordance with Oil Pollution Act of 1990 (OPA) (33 U.S.C. 2701 et seq.), the Natural Resource Damage Assessment Regulations found at 15 CFR part 990, and the National Environmental Policy Act. It is intended to describe the Trustees' proposals to restore natural resources injured from the T/V Anitra spill and evaluate the impacts of each.

The RP/EA describes a number of habitat restoration and protection alternatives and discusses the environmental consequences of each. Restoration efforts which have the greatest potential to restore migratory shorebird habitats and the services those habitats provide to migratory shorebirds are preferred. Based on an evaluation of the various restoration alternatives, management and enhancement of piping plover and other migratory shorebird habitat in New Jersey and the development of a partnership to manage South American shorebird wintering grounds are being proposed.

Interested members of the public are invited to review and comment on the RP/EA. Copies of the RP/EA are available for review at the U.S. Fish and Wildlife Service's New Jersey Field Office in Pleasantville, New Jersey (927 North Main Street, Building D Pleasantville, New Jersey). Additionally, the RP/EA will be available for review at the Cape May County Library, 30 West Mechanic Street, Cape May Court House, New Jersey 08210. Written comments will be considered and addressed in the final RP/EA at the conclusion of the restoration planning process.

Comments, including names and home addresses of respondents, will be available for public review during regular business hours. Individual respondents may request confidentiality. If you wish us to withhold your name and or address from public review, or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Author: The primary author of this notice is Timothy J. Kubiak, U.S. Fish and Wildlife Service, New Jersey Field Office, 927 North Main Street, Building D, Pleasantville, New Jersey 08232.

Authority: The authority for this action is the Oil Pollution Act of 1990 (33 U.S.C. 2701 et seq.), and implementing Natural Resource Damage Assessment Regulations found at 15 CFR part 990.

Dated: April 2, 2004.
Marvin E. Moriarty,
Regional Director, Region 5, U.S. Fish and Wildlife Service, DOI Designated Authorized Official.

[FR Doc. 04-9695 Filed 5-10-04; 8:45 am]

BILLING CODE 4310-55-P